INTERNATIONAL TRADE COMMISSION

[Investigation No. 337-TA-755]

In the Matter of Certain Starter Motors And Alternators; Notice of Commission Decision Not To Review an Initial Determination Granting Complainants' Unopposed Motion To Amend the Complaint and Notice of Investigation

AGENCY: U.S. International Trade Commission.

ACTION: Notice.

SUMMARY: Notice is hereby given that the U.S. International Trade Commission has determined not to review an initial determination (“ID”) (Order No. 14) granting complainants' unopposed motion to amend the complaint and notice of investigation to name Yun Sheng USA Inc. of San Francisco, California (“Yun Sheng”) and Electric Motor Services of Logan, West Virginia (“EMS”) as respondents in the above-captioned investigation.

FOR FURTHER INFORMATION CONTACT: Daniel E. Valencia, Office of the General Counsel, U.S. International Trade Commission, 500 E Street, SW., Washington, DC 20436, telephone (202) 205-1999. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on January 19, 2011, based on a complaint filed by Remy International, Inc. and Remy Technologies, L.L.C. (collectively, “Remy”). 76 FR 3158. The complaint alleges violations of section 337 of the Tariff Act of 1930 (19 U.S.C. 1337) in the importation into the United States, the sale for importation, and the sale within the United States after importation of certain starter motors and alternators by reason of infringement of various United States Patents. The original complaint named eight respondents. On April 11, 2011, Remy filed a motion to amend the complaint and notice of investigation to add Yun Sheng and EMS as respondents. On April 21, 2011, the Commission investigative attorney filed a response in support of the motion. No other responses were filed.

On April 27, 2011, the ALJ issued the subject ID granting Remy's motion to add Yun Sheng and EMS as respondents. No petitions for review of the ID were filed.

The Commission has determined not to review the ID.

The Notice of Investigation is amended to include the following respondents alleged to be in violation of section 337 and are parties upon which the amended complaint is to be served:

Yun Sheng USA, Inc. 395 Oyster Point, Blvd., Ste 230, San Francisco, California 94080;

Electric Motor Services, 70 River Rd., Logan, West Virginia 25601-4042.

The authority for the Commission's determination is contained in section 337 of the Tariff Act of 1930, as amended (19 U.S.C. 1337), and in section 210.42 of the Commission's Rules of Practice and Procedure (19 CFR 210.42).

By order of the Commission.
Issued: May 13, 2011.
James R. Holbein,
Acting Secretary to the Commission.

[FR Doc. 2011-12182 Filed 5-17-11; 8:45 am]

BILLING CODE P